INTERNATIONAL TRADE COMMISSION

[Investigation Nos. 701-TA-388, 389, and 391 and 731-TA-817, 818, and 821 (Third Review)]

Cut-to-Length Carbon Steel Plate From India, Indonesia, and Korea; Revised Schedule for the Subject Reviews

AGENCY: International Trade Commission.

ACTION: Notice.

DATES: October 20, 2017.

FOR FURTHER INFORMATION CONTACT: Celia Feldpausch ((202) 205-2387)), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (https://www.usitc.gov). The public record for this proceeding may be viewed on the Commission's electronic docket (EDIS) at https://edis.usitc.gov.

SUPPLEMENTARY INFORMATION: On August 4, 2017, the Commission established a schedule for the conduct of full reviews (82 FR 37465, August 10, 2017). In light of overlapping Commission commitments, the Commission is revising its schedule in this proceeding.

The Commission's new schedule for the full reviews is as follows: The prehearing staff report will be placed in the nonpublic record on December 12, 2017; the deadline for filing prehearing briefs is December 21, 2017; requests to appear at the hearing must be filed with the Secretary to the Commission not later than December 22, 2017; the prehearing conference will be held at the U.S. International Trade Commission Building on January 3, 2018, if deemed necessary; the hearing will be held at the U.S. International Trade Commission Building at 9:30 a.m. on January 4, 2018; the deadline for filing posthearing briefs is January 12, 2018; the Commission will make its final release of information on February 5, 2018; and final party comments are due on February 7, 2018.

For further information concerning the full reviews see the Commission's notice cited above and the Commission's Rules of Practice and Procedure, part 201, subparts A through E (19 CFR part 201), and part 207, subparts A and C (19 CFR part 207).

Authority: These reviews are being conducted under authority of title VII of the Tariff Act of 1930; this notice is published pursuant to section 207.21 of the Commission's rules.

By order of the Commission.
Issued: October 24, 2017.
Lisa R. Barton,
Secretary to the Commission.

[FR Doc. 2017-23431 Filed 10-26-17; 8:45 am]

BILLING CODE 7020-02-P